DEPARTMENT OF THE INTERIOR

Bureau of Land Management

[16X.LLAK941000.L1440000.ET0000;F-92350]

Notice of Application for Extension of Public Land Order No. 5645, and Opportunity for Public Meeting; Alaska

AGENCY: Bureau of Land Management, Interior.

ACTION: Notice.

SUMMARY: The General Services Administration (GSA) has filed an application with the Bureau of Land Management (BLM) requesting that the Assistant Secretary of the Interior for Land and Minerals Management extend the duration of the withdrawal created by Public Land Order (PLO) No. 5645 for an additional 20-year term. PLO No. 7336 extended PLO No. 5645, which withdrew approximately 10 acres of public land from surface entry and mining for the protection of the Poker Creek Border Station for an additional 20-year term. PLO No. 7336 also transferred administrative jurisdiction from the U.S. Customs Service to the GSA. The withdrawal extended by PLO No. 7336 will expire on July 18, 2018, unless further extended. This notice provides an opportunity for the public to comment on the withdrawal extension application and to request a public meeting.

DATES: Comments and requests for a public meeting must be received by April 25, 2016.

ADDRESSES: Comments and meeting requests should be sent to the Alaska State Director, BLM Alaska State Office, 222 West Seventh Avenue, No. 13, Anchorage, Alaska 99513-7504.

FOR FURTHER INFORMATION CONTACT: Renee Fencl, BLM Alaska State Office, 907-271-5067, email rfencl@blm.gov.

Persons who use a Telecommunications Device for the Deaf (TDD) may call the Federal Information Relay Service (FIRS) at 1-800-877-8339 to contact the above individual. The FIRS is available 24 hours a day, 7 days a week. You will receive a reply during normal business hours.

SUPPLEMENTARY INFORMATION: The GSA has filed an application requesting that the Assistant Secretary of the Interior for Land and Minerals Management extend the withdrawal created by PLO No. 5645 (43 FR 31006 (1978)), for an additional 20-year term. PLO No. 7336 (63 FR 30511, (1998)), extended PLO No. 5645, which withdrew public lands for the protection of the Poker Creek Border Station, from settlement, sale, location, or entry, under all of the general land laws, including the mining laws for a 20-year term.

PLO No. 5645 is incorporated herein by reference. A complete description, along with all other records pertaining to the extension, can be examined in the BLM Alaska State Office at the address shown above.

Notice is hereby given that an opportunity for a public meeting is afforded in connection with the withdrawal extension application. All interested parties who desire a public meeting for the purpose of being heard on the withdrawal extension application must submit a written request to the BLM Alaska State Director. Upon determination by the authorized officer that a public meeting will be held, the BLM will publish a notice of the time and place in the Federal Register and a local newspaper at least 30 days before the scheduled date of the meeting.

The withdrawal extension application will be processed in accordance with the regulations set forth in 43 CFR 2310.4 and subject to Section 810 of the Alaska National Interest Lands Conservation Act, (16 U.S.C. 3120).

For a period until April 25, 2016, all persons who wish to submit comments, suggestions, or objections in connection with the proposed withdrawal extension may present their views in writing to the BLM Alaska State Director at the address indicated above. Before including your address, phone number, email address, or other personal identifying information in your comment, you should be aware that your entire comment—including your personal identifying information—may be made publicly available at any time. While you can ask us in your comment to withhold your personal identifying information from public review, we cannot guarantee that we will be able to do so.

Erika Reed,
Acting Deputy State Director, Division of Lands and Cadastral Survey.

[FR Doc. 2016-01390 Filed 1-22-16; 8:45 am]

BILLING CODE 1410-JA-P